DEPARTMENT OF LABOR

Employment and Training Administration

[TA-W-57,512]

US Airways, Inc. Myrtle Beach, SC; Dismissal of Application for Reconsideration

Pursuant to 29 CFR 90.18(C) an application for administrative reconsideration was filed with the Director of the Division of Trade Adjustment Assistance for workers at U.S. Airways, Inc., Myrtle Beach, South Carolina. The application contained no new substantial information which would bear importantly on the Department's determination. Therefore, dismissal of the application was issued.

TA-W-57,512; U.S. Airways, Inc., Myrtle Beach, South Carolina (October 20, 2005).

Signed at Washington, DC, this 20th day of October 2005.
Douglas F. Small,
Acting Director, Division of Trade Adjustment Assistance.

[FR Doc. E5-5995 Filed 10-28-05; 8:45 am]

BILLING CODE 4510-30-P